DEPARTMENT OF ENERGY

Federal Energy Regulatory Commission

[Docket No. CP13-83-000]

Arlington Storage Company, LLC; Notice of Intent To Prepare an Environmental Assessment for the Proposed Seneca Lake Storage Facility Gallery 2 Expansion Project, and Request for Comments on Environmental Issues

The staff of the Federal Energy Regulatory Commission (FERC or Commission) will prepare an environmental assessment (EA) that will discuss the environmental impacts of the Arlington Storage Company, LLC (Arlington Storage) Seneca Lake Storage Facility Gallery 2 Expansion Project (Project). The expansion would be accomplished through the conversion of two existing interconnected bedded salt caverns (collectively known as “Gallery 2”), previously used for liquid propane gas (LPG) storage, to natural gas storage. The Project is located in Schuyler County, New York on the west side of Seneca Lake in the Town of Reading (Figure 1). This EA will be used by the Commission in its decision-making process to determine whether the project is in the public convenience and necessity.

This notice announces the opening of the scoping process the Commission will use to gather input from the public and interested agencies on the Project. Your input will help the Commission staff determine what issues need to be evaluated in the EA. Please note that the project scoping period will close on May 3, 2013. Further details on how to submit written comments are provided in the Public Participation section of this notice.

This notice is being sent to the Commission's current environmental mailing list for this project as described under the Environmental Mailing List Section of this notice. State and local government representatives are asked to notify their constituents of this proposed project and encourage them to comment on their areas of concern.

The Project would be constructed on land owned by Arlington Storage or its affiliate U.S. Salt Corporation, within an area used for salt mining and/or natural gas activities. Project work areas have been previously disturbed through historical solution mining operations for salt production and LPG storage. Development of the caverns at Gallery 2 began in 1958 by the International Salt Company. The gallery caverns were used for brine production until 1964 when they were converted to LPG storage until 1984 when the caverns were emptied of LPG and filled with salt water for preservation. No residential lands would be crossed and no unaffiliated landowners would be directly affected by the proposed work.

Summary of the Proposed Project

The proposed Project would consist of converting two existing interconnected bedded salt caverns, previously used for LPG storage, and related facilities (collectively known as “Gallery 2”) to natural gas storage. The addition of Gallery 2 would add an incremental 0.55 billion cubic feet (Bcf) of working gas capacity to the Arlington Storage existing Seneca Lake facility. Arlington's existing Seneca Lake storage consists of two storage caverns (“Gallery 1”) with a working gas capacity of 1.45 Bcf. The Arlington Storage Seneca Lake facility interconnects with the Dominion Transmission, Inc. and Millennium Pipeline Company, LLC interstate natural gas pipeline systems. In order to add the proposed incremental 0.55 Bcf of facility working gas capacity, Arlington Storage requests to:

• Construct approximately 500 feet of pipeline (170 feet of 16-inch-diameter and 330 feet of 8-inch-diameter pipeline) to connect the Gallery 2 wells to the existing Seneca Lake 16-inch-diameter natural gas pipeline;

• install a 500 horsepower (hp) skid-mounted compressor unit;

• use of Well no. 45 in debrining ¹ operation, and for future cavern monitoring;

¹ The project would ready the caverns for natural gas storage by pumping the saltwater out of the caverns. This process is referred to as “debrining”.

• construct temporary facilities to be used during the cavern(s) debrining process consisting of a temporary brine pump and temporary brine pipelines;

• installation of electric and instrument air lines connecting the Gallery 2 facilities to the Seneca Lake Storage compressor station; and

• plug and abandon two existing wells formerly used in the Gallery 2 Caverns' brine production and propane storage operation

The general location of the Project facilities is shown in Appendix 1.²

² The appendices referenced in this notice will not appear in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Construction of the planned Project pipeline facilities would disturb about 6.63 acres of land owned by Arlington Storage which comprises the Gallery 2 site (4.84 acres), the temporary laydown area (0.92 acres), and the temporary use of an existing access road (0.87 acres) (see Figure 1). Following construction, Arlington would maintain about 0.85 acres for permanent operation of Project facilities. The remaining 5.8 acres disturbed by construction would be restored and revert to former uses.

The EA Process

The National Environmental Policy Act (NEPA) requires the Commission to take into account the environmental impacts that could result from an action whenever it considers the issuance of a Certificate of Public Convenience and Necessity. NEPA also requires us ³ to discover and address concerns the public may have about proposals. This process is referred to as “scoping.” The main goal of the scoping process is to focus the analysis in the EA on the important environmental issues. By this notice, the Commission requests public comments on the scope of the issues to address in the EA. All comments received will be considered during the preparation of the EA.

³ “We,” “us,” and “our” refer to the environmental staff of the Commission's Office of Energy Projects.

In the EA we will discuss impacts that could occur as a result of the construction and operation of the proposed project under these general headings:

• Geology and soils;

• land use;

• water resources, fisheries, and wetlands;

• cultural resources;

• vegetation and wildlife;

• air quality and noise;

• endangered and threatened species;

• public safety; and

• cumulative impacts.

We will also evaluate reasonable alternatives to the proposed project or portions of the project, and make recommendations on how to lessen or avoid impacts on the various resource areas.

Our independent analysis of the issues will be presented in the EA. The EA will be placed in the public record and, will be published and distributed to the public. A comment period will be allotted after the EA is published for review. We will consider all comments on the EA before we make our recommendations to the Commission. To ensure your comments are considered, please carefully follow the instructions in the Public Participation section of this notice.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice.

Consultations Under Section 106 of the Natural Historic Preservation Act

In accordance with the Advisory Council on Historic Preservation's implementing regulations for section 106 of the Natural Historic Preservation Act, we are using this notice to initiate consultation with applicable State Historic Preservation Office(s) (SHPO), and to solicit their views and those of other government agencies, interested Indian tribes, and the public on the project's potential effects on historic properties.⁴ We will define the project-specific Area of Potential Effects (APE) in consultation with the SHPO(s) as the Project is further developed. On natural gas facility projects, the APE at a minimum encompasses all areas subject to ground disturbance (examples include construction right-of-way, contractor/pipe storage yards, compressor stations, and access roads). Our EA would document our findings on the potential Project impacts on historic properties and summarize the status of consultations under section 106.

⁴ The Advisory Council on Historic Preservation's regulations are at Title 36, Code of Federal Regulations, Part 800. Historic properties are defined in those regulations as any prehistoric or historic district, site, building, structure, or object included in or eligible for inclusion in the Natural Register of Historic Places.

Currently Identified Environmental Issues

We have already identified several issues that we think deserve attention based on a preliminary review of the proposed facilities, the environmental information provided by Arlington Storage, and comments received from the public. This preliminary list of issues may be changed based on your comments and our analysis.

• Air quality and low-frequency noise impacts from the proposed compression facility;

• effects of construction and operation on migratory wildlife species;

• potential spills from debrining the caverns and potential impact to groundwater and surface water quality; and

• cumulative environmental impacts from existing natural gas and LPG storage in the region.

Public Participation

You can make a difference by providing us with your specific comments or concerns about the Project. Your comments should focus on the potential environmental effects, reasonable alternatives, and measures to avoid or lessen environmental impacts. The more specific your comments, the more useful they will be. To ensure that your comments are timely and properly recorded, please send your comments so that they will be received in Washington, DC on or before May 3, 2013.

For your convenience, there are three methods which you can use to submit your comments to the Commission. In all instances please reference the Project docket number (CP13-83-000) with your submission. The Commission encourages electronic filing of comments and has expert eFiling staff available to assist you at (202) 502-8258 or efiling@ferc.gov.

(1) You may file your comments electronically by using the eComment feature, which is located on the Commission's Web site at www.ferc.gov under the link to Documents and Filings. An eComment is an easy method for interested persons to submit brief, text-only comments on a project;

(2) You may file your comments electronically by using the eFiling feature, which is located on the Commission's Web site at www.ferc.gov under the link to Documents and Filings. With eFiling, you can provide comments in a variety of formats by attaching them as a file with your submission. New eFiling users must first create an account by clicking on “eRegister.” You will be asked to select the type of filing you are making. A comment on a particular project is considered a “Comment on a Filing”; or

(3) You may file a paper copy of your comments at the following address: Kimberly D. Bose, Secretary, Federal Energy Regulatory Commission, 888 First Street NE., Room 1A, Washington, DC 20426.

Environmental Mailing List

The environmental mailing list includes federal, state, and local government representatives and agencies; elected officials; Native American Tribes; environmental and public interest groups; other interested parties; and local libraries and newspapers. This list also includes all affected landowners (as defined in the Commission's regulations) who own homes within certain distances of aboveground facilities, and anyone who submitted comments on the project. We have made every effort to include all commentors on the mailing list; however, we are unable to include commentors that did not include a physical address with their comments. We will update the environmental mailing list as the analysis proceeds to ensure that we send the information related to this environmental review to all individuals, organizations, and government entities interested in and/or potentially affected by the proposed project.

Once the EA is published for distribution, copies will be sent to the environmental mailing list for public review and comment. If you would prefer to receive a paper copy of the document instead of the CD version or would like to remove your name from the mailing list, please return the attached Information Request (Appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's Web site.

Additional Information

Additional information about the project is available from the Commission's Office of External Affairs, at (866) 208-FERC, or on the FERC Web site at www.ferc.gov using the “eLibrary” link. Click on the eLibrary link, click on “General Search” and enter the docket number, excluding the last three digits in the Docket number field (i.e., CP13-83). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: April 3, 2013.
Kimberly D. Bose,
Secretary.

[FR Doc. 2013-08598 Filed 4-11-13; 8:45 am]

BILLING CODE 6717-01-P